DEPARTMENT OF COMMERCE

National Oceanic and Atmospheric Administration

RIN 0648-XG149

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrant further consideration. The Exempted Fishing Permit would allow commercial fishing vessels to land Atlantic halibut under the minimum size limit and in excess of the possession limit. This EFP is required to support an Atlantic halibut study by the University of Massachusetts, Dartmouth, School for Marine Science and Technology, and The Nature Conservancy to improve future halibut stock assessments.

Regulations under the Magnuson-Stevens Fishery Conservation and Management Act require publication of this notification to provide interested parties the opportunity to comment on applications for proposed Exempted Fishing Permits.

DATES: Comments must be received on or before April 27, 2018.

ADDRESSES: You may submit written comments by any of the following methods:

• Email: NMFS.GAR.EFP@noaa.gov. Include in the subject line “Comments on TNC Atlantic halibut EFP.”

• Mail: Michael Pentony, Regional Administrator, NMFS, Northeast Regional Office, 55 Great Republic Drive, Gloucester, MA 01930. Mark the outside of the envelope “TNC Atlantic Halibut EFP.”

FOR FURTHER INFORMATION CONTACT: Spencer Talmage, Fishery Management Specialist, 978-281-9232, Spencer.Talmage@noaa.gov.

SUPPLEMENTARY INFORMATION: The Nature Conservancy (TNC) submitted a complete application for an Exempted Fishing Permit (EFP) on March 6, 2018, which requests a renewal of an EFP issued last year to collect biological samples of halibut. The project is funded through the Saltonstall-Kennedy Grant Program, and seeks to address identified information gaps in order to improve future Atlantic halibut stock assessments. Research focuses on characteristics such as stock structure, seasonal movements, behavior, and life history. The renewal application requests the same exemptions from the regulations that were approved for the 2017 fishing year. The exemptions include the Atlantic halibut possession limit, as described in § 648.86(c), and the Atlantic halibut minimum size limit, as described in § 648.83(a)(1).

The EFP would authorize 21 commercial fishing vessels to collect biological samples of halibut during regular fishing operations. A maximum of five halibut may be sampled per trip. Participating vessels may land halibut under the minimum size limit and/or above the possession limit provided these fish are transferred to participating researchers for additional data collection. The EFP issued for the 2017 fishing year allowed for a total sampling size of 250 halibut sampled across the entirety of the project. To date, TNC has sampled 132 halibut. The renewed EFP would increase the total sample size to 275. TNC requested this increase in order to fully utilize Saltonstall-Kennedy Grant Program funding. Sampling would include recording of fish length and weight, as well as removal of gonads, otoliths, and genetic material.

The exemption from the minimum size limit would allow researchers to collect data from all sizes of halibut, which is necessary to ensure that results of the project are accurate and reflective of the halibut population. The exemption from the possession limit is necessary to ensure that the researchers are able to obtain sufficient biological samples to conduct their research. No halibut above the possession limit or below the minimum size limit could be landed for sale.

Fishing under the EFP would occur during the 2018 fishing year, from May 1, 2018 through April 30, 2019. Participating vessels would use multiple gear types, including handline/jig, longline, sink gillnet, and otter trawl. Fishing would occur throughout both the Gulf of Maine and the Georges Bank Regulated Mesh Areas, primarily in statistical areas 514, 521, 522, 525, and 526.

If approved, the applicants may request minor modifications and extensions to the EFPs throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 9, 2018.
Jennifer M. Wallace,
Acting Director, Office of Sustainable Fisheries, National Marine Fisheries Service.

[FR Doc. 2018-07621 Filed 4-11-18; 8:45 am]

BILLING CODE 3510-22-P